DEPARTMENT OF EDUCATION

National Assessment Governing Board; Meeting

AGENCY: National Assessment Governing Board; Education.

ACTION: Notice of full and partially closed meetings.

SUMMARY: This notice sets forth the schedule and proposed agenda of a forthcoming meeting of the National Assessment Governing Board. This notice also describes the functions of the Board. Notice of this meeting is required under section 10(a)(2) of the Federal Advisory Committee Act. This document is intended to notify the general public of their opportunity to attend. Individuals who will need accommodations for a disability in order to attend the meeting (i.e. interpreting services, assistive listening devices, materials in alternative format) should notify Munira Mwalimu at 202-357-6938 or at Munira.Mwalimu@ed.gov no later than July 23, 2001. We will attempt to meet requests after this date, but cannot guarantee availability of the requested accommodation. The meeting site is accessible to individuals with disabilities.

DATES: August 2-4, 2001.

Time:

August 2—Ad Hoc Committee on Confirming Test Results, 4:00 p.m.-5:00 p.m.; Executive Committee, 5:30 p.m.-7:00 p.m., (open), 6:00 p.m.-7:00 p.m. (closed).

August 3—Full Board 8:30 a.m.-9:30 a.m. (open); Assessment Development Committee 9:30 a.m.-10:15 a.m. (closed); 10:15 a.m.-12:00 p.m., (open); Committee on Standards, Design and Methodology, 9:30 a.m.-12:00 p.m. (open); Reporting and Dissemination Committee, 9:30 a.m.-12:00 p.m. (open); Full Board, 12:00 p.m.-1:15 p.m., (closed); 1:15 p.m.-4:15 p.m., (open).

August 4—Nominations Committee, 7:30 a.m.-8:00 a.m.; Full Board, 8:00 a.m.-12:00 p.m. (open).

Location: Ritz Carlton Pentagon City, 1250 South Hayes Street, Arlington, Virginia.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994 (Title IV of the Improving America's Schools Act of 1994) (Pub. L. 103-382).

The Board is established to formulate policy guidelines for the National Assessment of Educational Progress (NAEP). The Board is responsible for selecting subject areas to be assessed, developing assessment objectives, identifying appropriate achievement goals for each grade and subject tested, and establishing standards and procedures for interstate and national comparisons.

The Ad Hoc Committee on Confirming Test Results will meet in open session on August 2, 2001 from 4:00 p.m. to 5:00 p.m. to discuss matters pertaining to NAEP's confirming role envisaged under President Bush's “No Child Left Behind” initiative. The Executive Committee will meet on August 2, 2001 in open session from 5:30 p.m. to 6:00 p.m., and in closed session from 6:00 p.m. to 7:00 p.m.

In open session, the Executive Committee will receive updates on proposed legislation affecting NAEP and NAGB and on the contract to maintain test questions, and will receive a report on the Ad Hoc Committee on Confirming Test Results.

From 6:00—7:00 p.m. the Executive Committee will meet in closed session to discuss Independent Government Cost Estimates and Contract Decisions pertaining to the National Assessment of Educational Progress (NAEP) program. This session of the meeting must be conducted in closed session because public disclosure of this information would likely have an adverse financial and technical impact on the NAEP program. The discussion of this information would be likely to significantly frustrate implementation of a proposed agency action if conducted in open session. Such matters are protected by exemption 9(B) of section 552b(c) of Title 5 U.S.C.

During the latter part of the closed portion of the Executive Committee meeting on August 2, the Committee will nominate the Vice Chair of the National Assessment Governing Board. This session has to be conducted in closed session, as reference will be made to private and personal background qualifications that will be assessed by the Committee in the nomination of the Vice Chair, in accordance with NAGB's bylaws. These discussions relate solely to information of a personal nature which disclosure would constitute an unwarranted invasion of personal privacy if conducted in open session. Such matters are protected by exemptions (2) and (6) of section 552b(c) of title 5 U.S.C.

On August 3, the full Board will convene in open session from 8:30 a.m.-9:30 a.m. The Board will approve the agenda; hear a report from the Executive Director of the National Assessment Governing Board; and receive an update on the NAEP Program. From 9:30 a.m. to 12:00 p.m., the Board's standing committees will meet in open session.

The Assessment Development Committee (ADC) will meet in closed session on Friday, August 3, 2001 from 9:30 a.m.-10:15 a.m. to review secure items from the NAEP reading assessment. This meeting must be closed because references will be made to specific test items from the NAEP assessment and premature disclosure of the items being reviewed whould significantly frustrate the implementation of the NAEP program. Such matters are protected by exemption 9(B) of section 552b(c) of Title 5 U.S.C.

Following the closed session, the Assessment Development Committee will meet in open session from 10:15 a.m. to 11:30 a.m. to discuss the NAEP Oral Reading Study; the Economics Framework Procurement; and the draft 2004 NAEP Mathematics Framework. From 11:30 a.m.-12:00 noon the ADC will meet in joint session with the Committee on Standards, Design and Methodology (COSDAM) to discuss technical issues related to the draft NAEP Mathematics Framework.

The Committee on Standards, Design, and Methodology will meet on Friday, August 3, 2001 from 9:30 a.m.-11:30 a.m. to discuss technical issues arising from changes in the NAEP block/booklet structure; technical issues related to increasing precision; proposed changes to the 2004 mathematics framework with scaling considerations; and technical considerations pertaining to Office and Management Budget (OMB) mandated changes in racial/ethnic questions. This session will then be followed by the joint session of the ADC and COSDAM from 11:30 a.m. to 12:00 p.m. to discuss technical issues related to the draft NAEP Mathematics Framework.

The Reporting and Dissemination Committee will meet on Friday, August 3, 2001 from 9:30 a.m.-12:00 p.m. to review background questions for NAEP 2000; to discuss policy matters on the content of NAEP reports in reading and mathematics; and to discuss reporting matters pertaining to OMB mandated changes in racial/ethnic questions.

On August 3, 2001, the full Board will meet in closed session from 12:00 p.m.-1:15 p.m. to receive a briefing on the NAEP 2000 Science Report Card. This meeting must be closed because the report has not gone through complete National Center for Education Statistics (NCES) adjudication process and has not been released by the Secretary of Education. Premature disclosure of the information presented for review would be likely to significantly frustrate implementation of a proposed agency action if conducted in open session. Such matters are protected by exemption 9(B) of section 552b(c) of Title 5 U.S.C.

The full Board will meet in open session on August 3, 2001 from 1:15 p.m.-2:00 p.m. to receive survey results on academic standards and testing. From 2:15 p.m.-3:00 p.m., the Board will receive an update from Congressional staff on “NAEP/NAGB: View from the Hill.” From 3:00 p.m.-4:15 p.m., the full Board will hear a discussion on NAEP Mathematics Trends from a State Perspective upon which the August 3, 2001 session of the Board meeting will adjourn.

On August 4, 2001 the Nominations Committee will convene from 7:30 a.m.-8:00 a.m. to discuss a letter received from the Secretary of Education requesting NAGB to continue to provide input and names of potential candidates for NAGB appointments made by the Secretary; to approve the timeline for seeking potential candidates in various categories; and to review and approve the rating and selection procedures.

From 8:00 a.m. to 8:30 p.m., the Board will receive a briefing on Achieve's Mathematics Achievement Partnership, followed by an update and discussion on the NAEP 2004 Mathematics Framework project from 8:30 a.m. to 9:30 a.m. The Board will then hear and take action on Committee reports from 9:30 a.m. to 11:45 a.m. From 11:45 a.m. to 12:00 p.m. the Board will elect the Vice Chair of the National Assessment Governing Board, whereupon the meeting will adjourn.

Summaries of the activities of the closed sessions and related matters, which are informative to the public and consistent with the policy of section 5 U.S.C. 552b(c), will be available to the public within 14 days of the meeting. Records are kept of all Board proceedings and are available for public inspection at the U.S. Department of Education, National Assessment Governing Board, Suite #825, 800 North Capitol Street, NW, Washington, DC, from 8:30 a.m. to 5:00 p.m. Eastern Standard Time.

Dated: July 11, 2001.
Roy Truby,
Executive Director, National Assessment Governing Board.

[FR Doc. 01-17693 Filed 7-13-01; 8:45 am]

BILLING CODE 4000-01-M